DEPARTMENT OF LABOR

Employment and Training Administration

[TA-W-50,953]

Advanced Energy, Including Leased Workers of Adecco, Voorhees, New Jersey; Amended Certification Regarding Eligibility To Apply for Worker Adjustment Assistance

In accordance with section 223 of the Trade Act of 1974 (19 U.S.C. 2273) the Department of Labor issued a Certification of Eligibility to Apply for Worker Adjustment Assistance on April 28, 2003, applicable to workers of Advanced Energy, Voorhees, New Jersey. The notice was published in the Federal Register on May 9, 2003 (68 FR 25061).

At the request of the State agency, the Department reviewed the certification for workers of the subject firm. New information shows that leased workers of Adecco were employed at Advanced Energy to produce radio frequency power generation equipment at the Voorhees, New Jersey location of the subject firm.

Based on these findings, the Department is amending this certification to include leased workers of Adecco working at Advanced Energy, Voorhees, New Jersey.

The intent of the Department's certification is to include all workers employed at Advanced Energy who were adversely affected by a shift in production to China.

The amended notice applicable to TA-W-50,953 is hereby issued as follows:

All workers of Advanced Energy, Voorhees, New Jersey, and leased workers of Adecco producing radio frequency power generation equipment at Advanced Energy, Voorhees, New Jersey, who became totally or partially separated from employment on or after February 19, 2002, through April 28, 2005, are eligible to apply for adjustment assistance under section 223 of the Trade Act of 1974.

Signed in Washington, DC this 22nd day of January, 2004.
Richard Church,
Certifying Officer, Division of Trade Adjustment Assistance.

[FR Doc. E4-248 Filed 02-10-04;8:45 am]

BILLING CODE 4510-13-P